DEPARTMENT OF JUSTICE

Notice of Lodging of First Amendment To Consent Decree Under the Comprehensive Environmental Response, Compensation, and Liability Act of 1980 (“CERCLA”)

Notice is hereby given that on October 30, 2007, a proposed First Amendment to Consent Decree in United States v. Stauffer Management Company LLC and Bayer CropScience Inc., Civil Action No. 8:05-cv-1024, was lodged with the United States District Court for the Middle District of Florida.

The proposed First Amendment to Consent Decree implements a modification to the CERCLA remedial action at the Stauffer Chemical Superfund Site in Tarpon Springs, Pinellas County, Florida (the “Site”) adopted by the U.S. Environmental Protection Agency through an Explanation of Significant Differences to the July 1998 Record of Decision with respect to Operable Unit 1 (Soils) at the Site. The remedy originally selected by EPA called for in-situ stabilization of contaminated sediments in wastewater ponds at the Site, using a cement slurry wall. During testing for the slurry wall, a reaction occurred between residual elemental phosphorus in the ponds and the slurry wall cement, resulting in a fire in the test area. In response, EPA determined that a cut off wall should be substituted for the in-situ stabilization approach to the wastewater ponds. The Amendment modifies the original Consent Decree to ensure that this remedy modification is enforceable.

The Department of Justice will receive for a period of thirty (30) days from the date of this publication comments relating to the First Amendment to Consent Decree. Comments should be addressed to the Assistant Attorney General, Environmental and Natural Resources Division, and either e-mailed to pubcomment-ees.enrd@usdoj.gov or mailed to P.O. Box 7611, U.S. Department of Justice, Washington, DC 20044-7611, and should refer to United States v. Stauffer Management Company LLC and Bayer CropScience Inc., D.J. Ref. 90-11-2-1227/3.

The First Amendment to Consent Decree may be examined at the Office of the United States Attorney, 400 North Tampa Street, Suite 3200, Tampa, Florida 33602, and at U.S. EPA Region 4, 61 Forsyth Street, Atlanta, Georgia 30303-8960. During the public comment period, the First Amendment to Consent Decree, may also be examined on the following Department of Justice Web Site, to http://www.usdoj.gov/enrd/Consent_Decrees.html. A copy of the First Amendment to Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $3.50 (25 cents per page reproduction cost) payable to the U.S. Treasury or, if by e-mail or fax, forward a check in that amount to the Consent Decree Library at the stated address.

Henry Friedman,
Assistant Chief, Environmental Enforcement Section, Environment and Natural Resources Division.

[FR Doc. 07-5693 Filed 11-15-07; 8:45 am]

BILLING CODE 4410-15-M